NUCLEAR REGULATORY COMMISSION

[NRC-2011-0217]

Policy Regarding Submittal of Amendments for Processing of Equivalent Feed at Licensed Uranium Recovery Facilities

AGENCY: Nuclear Regulatory Commission.

ACTION: Regulatory issue summary; request for comment.

SUMMARY: The U.S. Nuclear Regulatory Commission (NRC) is proposing to issue a regulatory issue summary (RIS) to inform addressees of the NRC's policy regarding receipt and processing, without a license amendment, of equivalent feed at an NRC and Agreement State-licensed uranium recovery site, either conventional, heap leach, or in situ recovery.

DATES: Submit comments by October 31, 2011. Comments submitted after this date will be considered if it is practical to do so, but assurance of consideration cannot be given except for comments received on or before this date.

ADDRESSES: Please include Docket ID NRC-2011-0217 in the subject line of your comments. For additional instructions on submitting comments and instructions on accessing documents related to this action, see “Submitting Comments and Accessing Information” in the SUPPLEMENTARY INFORMATION section of this document. You may submit comments by any one of the following methods:

• Federal Rulemaking Web Site: Go to http://www.regulations.gov and search for documents filed under Docket ID NRC-2011-0217. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

FOR FURTHER INFORMATION CONTACT: Mr. Ted Carter, Office of Federal and State Materials and Environmental Management Programs, Division of Waste Management and Environmental Protection, U.S. Nuclear Regulatory Commission, Washington, DC 20555- 0001, telephone: 301-415-5543 or e-mail: Ted.Carter@nrc.gov.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov. This Federal Register notice is available through ADAMS under Accession Number ML112290011.

• Federal Rulemaking Web Site: Public comments and supporting materials related to this notice can be found at http://www.regulations.gov by searching on Docket ID NRC-2011-0217.

The NRC's generic communications may be found on the NRC public Web site at http://www.nrc.gov/reading-rm/doc-collections/gen-comm/.

Draft NRC Regulatory Issue Summary 2011-xxxx: NRC Policy Regarding Submittal of Amendments for Processing of Equivalent Feed at Licensed Uranium Recovery Facilities

Addressees

U.S. Nuclear Regulatory Commission (NRC) licensed uranium recovery facilities; all holders of NRC operating licenses for water treatment; all companies that have submitted applications to construct all types of new uranium recovery facilities (conventional mills, heap leach facilities, and in situ recovery (ISR) facilities); and all Radiation Control Program Directors and State Liaison Officers.

Intent

In 2000, the NRC developed RIS 00-23, “Recent Changes to Uranium Recovery Policy,” (ADAMS Accession No. MLXXXXXXXX) to address licensing issues related to processing of alternate feed at uranium recovery sites. The NRC is issuing this RIS to clarify the agency's policy that receipt and processing, of “equivalent feed” ¹ (resin media) at an NRC-licensed uranium recovery facility, whether conventional, heap leach, or ISR does not require a license amendment when the resin being used is chemically and physically essentially the same and would be processed using existing equipment at the facility. It is not the intent of this RIS to change the policy expressed in RIS 00-23 or redefine the definition of alternate feed. Rather, it clarifies that inclusion of resin media into the alternate feed category is inconsistent with the original intent of RIS 00-23 and with technology now in existence in the uranium recovery industry.

¹ For the purposes of this RIS, equivalent feed is: ion exchange (IX) resin that is loaded with uranium at a facility other than a licensed uranium recovery facility, such as water treatment plants or mine dewatering operations.

Background

As stated above, the NRC is issuing this RIS to clarify the NRC's policy regarding alternate feed. In SECY-99-01, “Use of Uranium Mill Tailings Impoundments for the Disposal of Other Than 11e.(2) Byproduct Materials, and Reviews of Applications to Process Material Other Than Natural Uranium Ores,” (ADAMS Accession No. MLXXXXXXXX) the staff defines alternate feed as material other than natural uranium ores. Alternate feed can, therefore, be certain wastes, including sludges or soils, from other sites that contains recoverable amounts of uranium. The RIS 00-23 provided guidance on evaluating requests for a license amendment for a uranium recovery facility (i.e., conventional mill) to accept this material, recover the uranium, and dispose of the tailings (i.e., waste material) as byproduct material in the mill tailings impoundment. However, the NRC staff finds the resin from certain source material operations, such as community water treatment facilities and mine dewatering operations, are equivalent to the resin being used at uranium recovery facilities (e.g. ISRs or conventional mills/heap leach facilities using ion exchange circuits). In the ISR method, ore is not extracted from the ground for processing at a mill. Rather, the ore is processed in-situ with the resulting uranium-bearing fluids being passed through IX resins to extract the uranium. The NRC staff based this finding on the fact that the resins are chemically and physically essentially the same, and would be processed in the same way, as resins used in normal uranium recovery operations.

In December 2003, the U.S. Environmental Protection Agency (EPA) enacted a drinking water limit of 30 μg/L of uranium in drinking water. This limit applied to Community Water Systems (CWSs), which the EPA defines as public water systems that supply water to the same population year-round. For small CWSs that are required to remove uranium from drinking water to meet EPA standards, the transport, treatment, and disposal of treatment residuals (e.g., uranium loaded treatment resin) can be a significant cost. It has been noted by the EPA that for small-scale CWSs, handling of treatment residuals such as uranium-loaded resin may account for 50 percent of their total operating budget.² This financial burden has led some stake holders to urge the EPA to reconsider its regulations related to uranium in drinking water, including the waste disposal requirements for such materials.

² The EPA currently defines uranium-loaded resin generated by drinking water treatment to remove the uranium as a Technically-Enhanced Naturally-Occurring Radioactive Material (TENORM) that requires disposal at a facility permitted under Subtitle C or D of the Resource Conservation & Recovery Act (RCRA).

Related to the issue above, the NRC staff has been queried by representatives of the uranium recovery industry and uranium water treatment suppliers/operators about the potential for uranium recovery facilities to accept and process uranium-loaded resin (ULR) generated by drinking water treatment because the ULR can be processed in an ISR operator's ion exchange recovery circuit. However, in the absence of this clarification provided by this RIS, the ISR uranium recovery facility would be required to submit, and have the NRC approve, an amendment to its NRC license prior to receiving and processing such resins. An amendment would be required because without this clarification these resins would be considered an alternate feed, despite the fact that such resins are essentially the same as those resins currently used at ISR facilities during uranium recovery operations.

Summary of Issue

Currently, the only options for the disposition of resins generated from operations other than uranium recovery operations (i.e., treating drinking water sources and mine dewatering) are processing as alternate feed at a mill or disposal in landfills permitted under the RCRA or licensed by the NRC or an Agreement State. Under past interpretations of RIS 00-23, a license amendment would be required for an NRC-licensed uranium recovery facility to accept uranium-bearing resins resulting from treatment of community water supplies. The staff has determined that this interpretation does not reflect present day operating practices in the uranium recovery industry and is not consistent with the Commission's intent in issuing RIS 00-23. In particular, the NRC staff has determined that NRC and Agreement State-licensed uranium recovery facilities should be permitted to accept these resins as equivalent feed without the need for a license amendment so long as the receiving facility can demonstrate that processing the equivalent feed stays within the facilities' existing safety and environmental review envelope.

The basis for the staff's position relates to the original intent of RIS 00-23. The RIS 00-23, and the underlying Commission decision, was intended to address a concern that without restrictions on the processing of material other than natural ore, a conventional uranium recovery mill could process any material containing uranium and dispose the waste in the “tailings pile” (see Page A2 of SECY-99-011, [INSERT TITLE AND ADAMS ML]) resulting in what was then-termed “sham-disposal” (see SECY-09-012, [INSERT TITLE AND ADAMS ML]) (i.e. waste material that would otherwise have to be disposed of as radioactive or mixed waste would be proposed for processing at a uranium mill primarily to be able to dispose that material in the tailings pile as 11e.(2) byproduct material). Thus, material very dissimilar to the material normally processed at a conventional mill, would be processed largely to allow disposal as 11e.(2) byproduct material. In the case of ULR, the concern addressed in RIS 00-23 is not at issue. The ULRs are essentially the same as resins used to extract uranium at an in-situ recovery facility and the resulting processing and waste products would be the same as those associated with normal in-situ uranium recovery operations. Also similar to ISR resin, ULR is designed to only capture uranium and not other hazardous constituents.

Consequently, in this guidance, the staff is defining the term “equivalent feed” to apply to those circumstances where the feed material is essentially the same in physical form and radiological content as the source material that is normally processed at a uranium recovery facility. For the purpose of this RIS, equivalent feed is IX resin that is loaded with uranium at a facility other than a licensed uranium recovery facility, such as water treatment plants or mine dewatering operations. However, it should be noted that processing of these resins for source material would need to occur before any waste would be considered as 11e.(2) byproduct material.

To constitute equivalent feed, resin must be chemically and physically essentially the same to that which is currently used at licensed uranium recovery facilities and must not result in additional waste streams or risks not assessed during the process of licensing the receiving uranium recovery facility. For example, a typical uranium treatment resin for drinking water (Z-92®) is produced by Lanxess (also known as Sybron Chemicals). The Z-92® resin is essentially the same in composition and function to the Dow 21K resin, the typical ion exchange resin used at most uranium recovery facilities. A comparison of the product information of Z-92® resin to that of Dow 21K resin indicates the following:

—Both are a strong-base, Type I anion exchange resin;

—The composition of both is divynylbenzene (dvb) styrene;

—The functional group of both is a quarternary amine;

—The physical form of both is resin beads with essentially the same bulk weight, color, and amine odor;

—The Z-92® resin is available in a similar bead-size range to that of Dow 21K;

—Water Remediation Technologies, Inc. identifies the Z-92® resin as selective for uranium; the Dow 21K resin is also selective for uranium.

The primary difference between the Z-92® and the typical uranium recovery IX resin is that the water treatment resin is marked and packaged specifically for use in potable water systems and, therefore, undergoes an additional step of the Water Quality Association testing for certification to ANSI/NSF Standard 61.

Given that ULRs are essentially the same as those resins processed at an in-situ recovery central processing plant; the staff sees no basis for requiring that an in-situ mill operator obtain a license amendment to process this essentially same material. The same process is also used for eluting or recovering uranium from water treatment and ISR resins. Therefore, the NRC staff believes that water treatment resins should be defined as equivalent feed. Thus, the processing of equivalent feed at a licensed in-situ recovery facility will not require an amendment to an existing license so long as the existing limits on production of uranium in the license are not exceeded and that the processing is within the existing safety and environmental review envelope.

Mine dewatering operations involve the extraction of water from surface or underground mines and, when necessary, the treatment of extracted water to remove pollutants prior to discharge. Mine dewatering is often necessary to allow miners to safely extract ore. In the case of uranium mine dewatering, extracted water is often treated by ion exchange to remove uranium prior to discharge. These ion exchange resins must either be disposed in a landfill or could be eluted at a uranium recovery facility. It should be noted that in the past, mine dewatering resins have been treated as alternate feed at conventional mills (57 FR 20532). These license amendments were required because at that time, the staff considered the mine dewatering resins to be processed or refined ore distinct from natural ore normally processed at a conventional mill. However, if a conventional mill has an existing IX processing circuit, either as part of its conventional milling process or a separate process line, it may accept equivalent feed without a license amendment.

For example, upon staff inquiry, Kennecott Uranium Company stated that its mine dewatering resin is the Dow 21K resin that is discussed above, which is the same resin used at ISR facilities. Therefore, the staff determined that mine dewatering resins, like loaded resins from CWSs, can be more appropriately classified as equivalent feed when they are sent for processing at a uranium recovery facility.

After processing the equivalent feed, the spent resin can be disposed as byproduct material in the same manner as the resin used in the primary uranium recovery activity. Disposal sites could either be existing mill tailings impoundments or other disposal facilities licensed by the NRC or Agreement States. No additional disposal requirements are necessary. This approach benefits our national interest by recovering a valuable resource and the environment by providing additional options instead of disposal for this material. Alternately, the unloaded resin may be returned to the water treatment facility, a mine dewatering facility, or a licensed uranium recovery facility for reuse. This is an economic benefit to the treatment facility (particularly CWSs) since operating costs are reduced and also results in less overall disposal of resin.

Enclosure 1 to this RIS offers additional information, which addressees may find useful, about uranium recovery processing of equivalent feed. Enclosure 2 contains procedures which the NRC finds satisfactory for accepting equivalent feed.

Voluntary Response

All addresses and the public may voluntarily submit comments on the policy regarding submittal of amendments for processing of equivalent feed at licensed uranium recovery facilities presented in this RIS. To be of use to the NRC, responses should be submitted by October 31, 2011.

Backfit Discussion

This RIS requires no action or written response. Any action that addressees take to implement changes or procedures in accordance with the information contained in this RIS ensures compliance with current regulations, is strictly voluntary, and, therefore, is not a backfit under any of the backfitting provisions contained in Title 10 of the Code of Federal Regulations (10 CFR) 50.109, 70.76, 72.62, 76.76, or the issue finality provision of 10 CFR part 52. Consequently, the staff did not perform a backfit analysis.

Federal Register Notice

To be done after the public comment period.

Congressional Review Act

This RIS is a rule as designated in the Congressional Review Act (5 U.S.C. 801-886) and, therefore, is subject to the Act.

Related Generic Communications

RIS 00-23, “Recent Changes to Uranium Recovery Policy.”

Paperwork Reduction Act Statement

This RIS references information collection requirements that are subject to the Paperwork Reduction Act of 1995 (44 U.S.C. 3501 et seq.). These information collection requirements were approved by the Office of Management and Budget, approval numbers 3150-0020.

Public Protection Notification

The NRC may not conduct or sponsor, and a person is not required to respond to, a request for information or an information collection requirement unless the requesting document displays a currently valid OMB control number.

Enclosures

1. Uranium Recovery Processing of Equivalent Feed: Additional Information.

2. Procedure for Accepting Equivalent Feed.

Uranium Recovery Processing of Equivalent Feed: Additional Information

Processing of equivalent feed from water treatment plants and mine dewatering operations at uranium recovery facilities (e.g. in-situ recovery (ISR) or conventional mills/heap leach facilities with ion exchange circuits) results in a lower overall environmental impact and is the preferred option when compared to disposal of these resins in a Resource Conservation & Recovery Act (RCRA)-permitted landfill or NRC and Agreement State licensed landfill. Transportation impacts are similar since in either option, the resin is trucked to an isolated location away from population centers (RCRA-permitted or NRC/Agreement State licensed landfill or a uranium recovery facility). Although disposal of equivalent feed in a lined RCRA-permitted landfill or NRC/Agreement State licensed landfill provides short term isolation, the long term environmental and financial liability associated with potential landfill failure coupled with the societal benefit of putting the uranium into the nuclear fuel cycle results in uranium recovery facility processing of equivalent feed, such as uranium-loaded water treatment and mine dewatering resin, as the preferred environmental option.

Processing water treatment resins as equivalent feed provides a significant cost benefit to small Community Water Systems. For these small water treatment operators, disposal at RCRA-permitted or NRC/Agreement State licensed landfills is cost prohibitive. Although, at this time, it is not possible to know the exact financial arrangements between the water treatment and uranium recovery facilities with respect to the processing of equivalent feed, it is reasonable to assume that the financial arrangements would be significantly more beneficial to the small water treatment operators than landfill disposal.

Procedures for Accepting Equivalent Feed

In situ recovery facilities (ISRs) or conventional mills with ion exchange circuits may accept equivalent feed, as defined in this regulatory issue summary, without a license amendment. The licensee should document that the received resins meet the equivalent feed criteria by being: (1) Chemically and physically essentially the same as the resins processed at the facility; (2) processed the same way as resins processed at the facility; and (3) processing the equivalent feed material stays within the existing safety and environmental review envelope for the facility. The NRC inspectors will review this documentation during the inspection process to verify that the received resins meet the equivalent feed criteria such that the licensee's processing of the material can be considered consistent with their license.

Following elution of the uranium-loaded equivalent feed (i.e., removal of the uranium from the treatment resin), the resulting unloaded resin can take two paths. Since the NRC is allowing equivalent feed to be processed at uranium recovery facilities, the wastes associated with processing equivalent feed (i.e., unloaded resin) are considered byproduct material, as defined in Title 10 of the Code of Federal Regulations part 40. Therefore, these wastes may be disposed of at an NRC-licensed facility without further documentation. Alternately, the unloaded resin may be returned to a water treatment facility, a mine dewatering facility or a licensed uranium recovery facility for reuse.

Contact

If you have any questions about this summary, please contact Mr. Ted Carter, Office of Federal and State Materials and Environmental Management Programs, Division of Waste Management and Environmental Protection, U.S. Nuclear Regulatory Commission, Washington, DC 20555- 0001, telephone: 301-415-5543 or e-mail: Ted.Carter@nrc.gov.

Dated at Rockville, Maryland, this 22nd day of September 2011.
For the Nuclear Regulatory Commission.
Larry W. Camper,
Director, Division of Waste Management and Environmental Protection, Office of Federal and State Materials and Environmental Management Programs.

[FR Doc. 2011-25243 Filed 9-29-11; 8:45 am]

BILLING CODE 7590-01-P